DEPARTMENT OF COMMERCE

Patent and Trademark Office

[Docket No. PTO-P-2012-0050]

Extension of Comment Period for Request for Comments on a Patent Small Claims Proceeding in the United States

AGENCY: United States Patent and Trademark Office, Commerce.

ACTION: Notice of extension of public comment period.

SUMMARY: The United States Patent and Trademark Office (“USPTO”) is extending until April 30, 2013, the period for public comment regarding a patent small claims proceeding. The USPTO is extending the public comment period to ensure stakeholders have adequate time to submit complete responses.

DATES: Written comments must be received on or before April 30, 2013.

ADDRESSES: Written comments should be sent by email to ip.policy@uspto.gov. Comments may also be submitted by postal mail addressed to: Mail Stop OPEA, P.O. Box 1450, Alexandria, VA 22313-1450, ATTN: Elizabeth Shaw. Although comments may be submitted by postal mail, the USPTO prefers to receive comments via email. Written comments should be identified in the subject line of the email or postal mailing as “Patent Small Claims.” Because comments will be made available for public inspection, information that is not desired to be made public, such as an address or phone number, should not be included.

FOR FURTHER INFORMATION CONTACT: David Gerk, Office of Policy and External Affairs, by phone 571-272-9300, by email at David.Gerk@uspto.gov or by mail addressed to: Mail Stop OPEA, United States Patent and Trademark Office, P.O. Box 1450, Alexandria, Virginia 22313-1450, ATTN: David Gerk.

SUPPLEMENTARY INFORMATION: On December 18, 2012, the USPTO published a request for comments on a patent small claims proceeding. The notice invited the public to submit written comments on or before March 18, 2013. The USPTO is now extending the period for submission of public comments until April 30, 2013.

Dated: February 28, 2013.
Teresa Stanek Rea,
Acting Under Secretary of Commerce for Intellectual Property and Acting Director of the United States Patent and Trademark Office.

[FR Doc. 2013-05162 Filed 3-5-13; 8:45 am]

BILLING CODE 3510-16-P